DEPARTMENT OF TRANSPORTATION

Federal Aviation Administration

14 CFR Part 39

[Docket No. FAA-2023-0434; Product Identifier 91-NM-255-AD]

RIN 2120-AA64

Airworthiness Directives; Airbus SAS Airplanes

AGENCY: Federal Aviation Administration (FAA), DOT.

ACTION: Notice of proposed rulemaking (NPRM).

SUMMARY: The FAA proposes to remove Airworthiness Directive (AD) 92-02-14, which applies to certain Airbus SAS Model A320 series airplanes. AD 92-02-14 was prompted by failure of the overwing emergency escape slides to deploy due to incorrect cable installations. AD 92-02-14 requires inspection for correct installation of the flexible control cables on the overwing emergency escape slides. AD 92-02-14 is no longer necessary because no new occurrences of incorrect cable installations have been reported, and existing maintenance activities are adequate to prevent new occurrences. Therefore, the FAA has determined that AD 92-02-14 is no longer necessary. Accordingly, the FAA proposes to remove AD 92-02-14.

DATES: The FAA must receive comments on this proposed AD by May 8, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0434; or in person at Docket Operations between 9 a.m. and 5 p.m., Monday through Friday, except Federal holidays. The AD docket contains this NPRM, mandatory continuing airworthiness information (MCAI), any comments received, and other information. The street address for Docket Operations is listed above.

FOR FURTHER INFORMATION CONTACT: Dan Rodina, Aerospace Engineer, Large Aircraft Section, International Validation Branch, FAA, 2200 South 216th St., Des Moines, WA 98198; phone 206-231-3225; email Dan.Rodina@faa.gov.

SUPPLEMENTARY INFORMATION:

Comments Invited

The FAA invites you to send any written relevant data, views, or arguments about this proposal. Send your comments to an address listed under ADDRESSES. Include “Docket No. FAA-2023-0434; Product Identifier 91-NM-255-AD” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan Rodina, Aerospace Engineer, Large Aircraft Section, International Validation Branch, FAA, 2200 South 216th St., Des Moines, WA 98198; phone 206-231-3225; email Dan.Rodina@faa.gov. Any commentary that the FAA receives that is not specifically designated as CBI will be placed in the public docket for this rulemaking.

Background

The FAA issued AD 92-02-14, Amendment 39-8150 (57 FR 5375, February 14, 1992) (AD 92-02-14), for certain Airbus SAS Model A320 series airplanes. AD 92-02-14 was prompted by failure of the overwing emergency escape slides to deploy due to incorrect cable installations. AD 92-02-14 requires inspection for correct installation of the flexible control cables on the overwing emergency escape slides. The FAA issued AD 92-02-14 to prevent failure of the overwing emergency escape slides to deploy, which would compromise use of the exit during an emergency.

AD 92-02-14 corresponded to AD 91-153-018, dated July 10, 1991, issued by the Direction Générale de l'Aviation Civile (DGAC), the former airworthiness authority of France (DGAC France AD 91-153-018).

Actions Since AD 92-02-14 Was Issued

Since the FAA issued AD 92-02-14, EASA issued AD Cancellation Notice 2022-0160-CN, dated August 4, 2022 (EASA AD Cancellation Notice 2022-0160-CN), to cancel DGAC France AD 91-153-018. EASA Cancellation Notice 2022-0160-CN states that since DGAC France AD 91-153-018 was issued, affected slides have been overhauled (dismantled and maintained) every 3 calendar years. No new occurrences have been reported of incorrect cable installations. It has also been determined that existing Aircraft Maintenance Manual and Maintenance Review Board Report tasks are adequate to prevent new occurrences.

FAA's Conclusions

Upon further consideration, the FAA has determined that AD 92-02-14 is no longer necessary. Accordingly, this proposed AD would remove AD 92-02-14. Removal of AD 92-02-14 would not prevent the FAA from issuing another related action or commit the FAA to any course of action in the future. This proposed AD would terminate, and therefore remove, all requirements of AD 92-02-14.

Related Costs of Compliance

This proposed AD would add no cost. This proposed AD would remove AD 92-02-14 from 14 CFR part 39; therefore, operators would no longer be required to show compliance with that AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 92-02-14, Amendment 39-8150 (57 FR 5375, February 14, 1992), and

b. Adding the following new airworthiness directive:

Airbus SAS: Docket No. FAA-2023-0434; Product Identifier 91-NM-255-AD.

(a) Comments Due Date

The FAA must receive comments on this AD action by May 8, 2023.

(b) Affected Airworthiness Directive (AD)

This AD replaces AD 92-02-14, Amendment 39-8150 (57 FR 5375, February 14, 1992) (AD 92-02-14).

(c) Applicability

This AD applies to Airbus Model A320-211, A320-212, and A320-231 airplanes, certificated in any category, manufacturer serial numbers 002 through 162 inclusive, 167, and 171 through 174 inclusive.

(d) Subject

Air Transport Association (ATA) of America Code 25, Equipment/Furnishings.

(e) Terminating Action

This AD terminates all requirements of AD 92-02-14.

(f) Related Information

For more information about this AD, contact Dan Rodina, Aerospace Engineer, Large Aircraft Section, International Validation Branch, FAA, 2200 South 216th St., Des Moines, WA 98198; phone 206-231-3225; email Dan.Rodina@faa.gov.

(g) Material Incorporated by Reference

None.

Issued on March 14, 2023.
Christina Underwood,
Acting Director, Compliance & Airworthiness Division, Aircraft Certification Service.

[FR Doc. 2023-05710 Filed 3-23-23; 8:45 am]

BILLING CODE 4910-13-P